Proclamation 9647 of September 29, 2017

National Breast Cancer Awareness Month, 2017

By the President of the United States of America

A Proclamation

As we observe National Breast Cancer Awareness Month, our Nation joins in solidarity with those who are currently battling breast cancer and we remember those we have lost to the disease. Too many Americans endure the pain and heartbreak of losing a family member or friend to breast cancer. Memories of our loved ones, and their courage in the face of suffering, drive us to find a cure.

More than 250,000 American women and 2,000 men will likely be diagnosed with some form of breast cancer in 2017. Fortunately, thanks to early detection and improved treatment options, deaths from breast cancer have decreased significantly in the last decade. The First Lady and I encourage all women to talk to their healthcare providers about mammograms and other methods of early detection, and about their risk of developing breast cancer, and what can be done to reduce that risk.

My Administration is helping pave the way for medical breakthroughs to strengthen our fight against breast cancer by leveraging the tools provided under the 21st Century Cures Act. Our Nation's biomedical research laboratories, universities, and industry innovators are global leaders in discovering, developing, and advancing the medical breakthroughs necessary to better detect, diagnose, and treat breast cancer. Their cutting-edge therapies are redefining breast cancer care and giving patients and families affected by this disease new hope that we will defeat it once and for all.

During this month, we stand strong for those facing a breast cancer diagnosis, and we take a moment to thank our friends and family who tirelessly lend their support, and we pause to reflect on those we have lost to this terrible disease. Our Nation's researchers, innovators, doctors, nurses, public health professionals, and advocates have helped improve the process and possibility of recovery, and together we hope to forge a future free of breast cancer. By raising awareness of breast cancer and supporting research, prevention, and early detection, we will move closer to eradicating this disease.

NOW, THEREFORE, I, DONALD J. TRUMP, President of the United States of America, by virtue of the authority vested in me by the Constitution and the laws of the United States, do hereby proclaim October 2017 as National Breast Cancer Awareness Month. I encourage citizens, government agencies, private businesses, nonprofit organizations, the media, and other interested groups to increase awareness of how Americans can fight breast cancer. I also invite the Governors of the States and Territories and officials of other areas subject to the jurisdiction of the United States to join me in recognizing National Breast Cancer Awareness Month.

IN WITNESS WHEREOF, I have hereunto set my hand this twenty-ninth day of September, in the year of our Lord two thousand seventeen, and of the Independence of the United States of America the two hundred and forty-second.

[FR Doc. 2017-21550

Filed 10-3-17; 11:15 am]

Billing code 3295-F7-P